DEPARTMENT OF HEALTH AND HUMAN SERVICES

Centers for Disease Control and Prevention

Disease, Disability, and Injury Prevention and Control Special Emphasis Panel (SEP): Grants for Education Programs in Occupational Safety and Health, Program Announcement 04001

In accordance with Section 10(a)(2) of the Federal Advisory Committee Act (Pub. L. 92-463), the Centers for Disease Control and Prevention (CDC) announces the following meeting:

Name: Disease, Disability, and Injury Prevention and Control Special Emphasis Panel (SEP): Grants for Education Programs in Occupational Safety and Health, Program Announcement 04001.

Times and Dates: 7:30 p.m.-8 p.m., February 22, 2004 (Open); 8 p.m.-9:20 p.m., February 22, 2004 (Closed); 8 a.m.-4:40 p.m., February 23, 2004 (Closed); 8 a.m.-2:45 p.m., February 24, 2004 (Closed).

Place: Embassy Suites, 10 E. River Center Boulevard, Covington, KY 41011, Captain's View Meeting Room, Telephone (859) 261-8400.

Status: Portions of the meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to Program Announcement 04001.

For Further Information Contact: Bernadine B. Kuchinski, Ph.D., Occupational Health Consultant, Office of Extramural Programs, OD/NIOSH/CDC, Cincinnati, OH, (513) 533-8511.

The Director, Management Analysis and Services Office, has been delegated the authority to sign Federal Register notices pertaining to announcements of meetings and other committee management activities, for both CDC and the Agency for Toxic Substances and Disease Registry.

Dated: January 8, 2004.
Alvin Hall,
Director, Management Analysis and Services Office, Centers for Disease Control and Prevention (CDC).

[FR Doc. 04-773 Filed 1-13-04; 8:45 am]

BILLING CODE 4163-19-P